ENVIRONMENTAL PROTECTION AGENCY

40 CFR Part 180

[EPA-HQ-OPP-2002-0043; FRL-8432-2]

Pesticide Tolerance Nomenclature Changes; Technical Amendment

AGENCY: Environmental Protection Agency (EPA).

ACTION: Final rule.

SUMMARY: This final rule makes minor revisions to the terminology of certain commodity terms listed under 40 CFR part 180, subpart C. This action establishes a uniform listing of commodity terms.

DATES: This document is effective September 9, 2009. Objections and requests for hearings must be received on or before November 9, 2009, and must be filed in accordance with the instructions provided in 40 CFR part 178 (see also Unit I.C. of the SUPPLEMENTARY INFORMATION).

ADDRESSES: EPA has established a docket for this action under docket identification (ID) number EPA-HQ-OPP-2002-0043. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Drive, Arlington, VA. The Docket Facility is open from 8:30 a.m. to 4 p.m., Monday through Friday, excluding legal holidays. The Docket Facility telephone number is (703) 305-5805.

FOR FURTHER INFORMATION CONTACT: Stephen Schaible, Registration Division (7505C), Office of Pesticide Programs, Environmental Protection Agency, 1200 Pennsylvania Ave., NW., Washington, DC 20460-0001; telephone number: (703) 308-9362; e-mail address: schaible.stephen@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturer (NAICS code 311).

• Pesticide manufacturer (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing an electronic copy of this Federal Register document through the electronic docket at http:/www.regulations.gov, you may access this Federal Register document electronically through the EPA Internet under the “Federal Register” listings at http://www.epa.gov/fedrgstr. You may also access a frequently updated electronic version of EPA's tolerance regulations at 40 CFR part 180 through the Government Printing Office's e-CFR site at http://www.gpoaccess.gov/ecfr.

C. Can I File an Objection or Hearing Request?

Under section 408(g) of FFDCA, 21 U.S.C. 346a, any person may file an objection to any aspect of this regulation and may also request a hearing on those objections. You must file your objection or request a hearing on this regulation in accordance with the instructions provided in 40 CFR part 178. To ensure proper receipt by EPA, you must identify docket ID number EPA-HQ-OPP-2002-0043 in the subject line on the first page of your submission. All requests must be in writing, and must be mailed or delivered to the Hearing Clerk as required by 40 CFR part 178 on or before November 9, 2009.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit this copy, identified by docket ID number EPA-HQ-OPP-2002-0043, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

II. Background

EPA's Office of Pesticide Programs (OPP) has developed a commodity vocabulary database entitled Food and Feed Commodity Vocabulary. The database was developed to consolidate all the major OPP commodity vocabularies into one standardized vocabulary. As a result, all future pesticide tolerances issued under 40 CFR part 180 will use the “preferred commodity term” as listed in the aforementioned database. This is the tenth in a series of documents revising the terminology of commodity terms listed under 40 CFR part 180. Nine final rules, revising pesticide tolerance nomenclature, have published in the Federal Register: June 19, 2002 (67 FR 41802) (FRL-6835-2); June 21, 2002 (67 FR 42392) (FRL-7180-1); July 1, 2003 (68 FR 39428) (FRL-7308-9) and (68 FR 39435) (FRL-7316-9); December 13, 2006 (71 FR 74802) (FRL-8064-3); September 18, 2007 (72 FR 53134) (FRL-8126-5) (corrected on October 31, 2007 (72 FR 61535) (FRL-8151-4); October 10, 2008 (73 FR 60151) (FRL-8376-1) and June 3, 2009 (74 FR 26527) (FRL-8417-9). EPA issued a proposed rule in the Federal Register of May 29, 2009 (74 FR 25689) (FRL-8403-8), announcing proposed terminology changes to 40 CFR part 180, subpart C. No comments were received in response to the May 29, 2009 Federal Register proposed rule.

III. Statutory and Exective Order Reviews

This document makes technical amendments to the Code of Federal Regulations which have no substantive impact on the underlying regulations, and it does not otherwise impose or amend any requirements. As such, the Office of Management and Budget (OMB) has determined that a technical amendment is not a “significant regulatory action” subject to review by OMB under Executive Order 12866, entitled Regulatory Planning and Review (58 FR 51735, October 4, 1993). Because this rule has been exempted from review under Executive Order 12866 due to its lack of significance, this final rule is not subject to Executive Order 13211, Actions Concerning Regulations That Significantly Affect Energy Supply, Distribution, or Use (66 FR 28355, May 22, 2001). This rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601 et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's rule on small entities, I certify that this action will not have a significant economic impact on a substantial number of small entities. This action proposes technical amendments to the Code of Federal Regulations which have no substantive impact on the underyling regulations. This technical amendment will not have any negative economic impact on any entities, including small entities. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This rule directly regulates growers, food processors, food handlers and food retailers, not States. This action does not alter the relationships or distribution of power and responsibilities established by Congress in the preemption provisions of section 408(n)(4) of the FFDCA. For these same reasons, the Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This rule will not have substantial direct effects on tribal governments, on the relationship between the Federal Government and Indian tribes, or on the distribution of power and responsibilities between the Federal Government and Indian tribes, as specified in Executive Order 13175. Thus, Executive Order 13175 does not apply to this rule.

IV. Congressional Review Act

The Congressional Review Act, 5 U.S.C. 801 et seq., generally provides that before a rule may take effect, the Agency promulgating the rule must submit a rule report that includes a copy of the rule to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 180

Environmental protection, Administrative practice and procedure, Agricultural commodities, Pesticides and pest, Reporting and recordkeeping requirements.

Dated: August 26, 2009.
Debra Edwards,
Director, Office of Pesticide Programs.

Therefore, 40 CFR chapter I is amended as follows:

PART 180—[AMENDED]

1. The authority citation for part 180 continues to read as follows:

Authority: 21 U.S.C. 321(q), 346(a) and 371.

2. Section 180.110 is amended by removing the entry for “Cabbage, chinese,” and adding alphabetically the following entries to the table in paragraph (a) to read as follows:

§ 180.110 Maneb; tolerances for residues.

(a) * * *

Commodity | Parts per million | Expiration/Revocation Date
* * * * *
Cabbage, Chinese, bok choy | 10 | None
Cabbage, Chinese, napa | 10 | None
* * * * *

* * * * *

3. Section 180.111 is amended by removing the entries for “Alfalfa,” “Bean,” “Beet (including tops),” “Clover,” “Corn, forage,” “Corn, grain, postharvest,” “Onion (including green onion),” “Salsify (including tops),” “Soybean (dry and succulent),” “Squash, summer and winter,” and “Turnip (including tops)” and alphabetically adding the following commodities to the table in paragraph (a)(1) to read as follows:

§ 180.111 Malathion; tolerances for residues.

(a) General. (1) * * *

Commodity | Parts per million
Alfalfa, forage | 135
Alfalfa, hay | 135
* * * * *
Bean, dry seed | 8
Bean, succulent | 8
Beet, garden, roots | 8
Beet, garden, tops | 8
* * * * *
Clover, forage | 135
Clover, hay | 135
* * * * *
Corn, field, forage | 8
Corn, field, grain, postharvest | 8
* * * * *
Corn, pop, grain, postharvest | 8
Corn, sweet, forage | 8
* * * * *
Onion, bulb | 8
Onion, green | 8
* * * * *
Salsify, roots | 8
Salsify, tops | 8
* * * * *
Soybean, seed | 8
Soybean, vegetable, succulent | 8
* * * * *
Squash, summer | 8
Squash, winter | 8
* * * * *
Turnip, greens | 8
Turnip, roots | 8
* * * * *

* * * * *

4. Section 180.121 is amended as follows:

a. By removing the entry for “Corn” from the table in paragraph (a).

b. By removing the entry for “Vetch” from the table in paragraph (e).

c. By adding alphabetically the following entries to the tables in paragraphs (a) and (e) to read as follows:

§ 180.121 Methyl parathion; tolerances for residues.

(a) * * *

Commodity | Parts per million | Expiration/Revocation Date
* * * * *
Corn, field, grain | 1.0 | None
Corn, pop, grain | 1.0 | None
* * * * *
Corn, sweet, kernel plus cob with husks removed | 1.0 | None
* * * * *

* * * * *

(e) * * *

Commodity | Parts per million
* * * * *
Vetch, forage | 1
Vetch, hay | 1

5. Section 180.149 is amended by removing the entry for “Corn, grain, postharvest” and adding alphabetically the following entries to the table in paragraph (a)(2) to read as follows:

§ 180.149 Mineral oil; tolerances for residues.

(a) * * *

(2) * * *

Commodity | Parts per million
Corn, field, grain, postharvest | 200
Corn, pop, grain, postharvest | 200
* * * * *

* * * * *

6. Section 180.176 is amended by removing the entries for “Barley, milled feed fractions,” “Corn, forage,” “Corn, stover,” “Kidney,” “Liver,” “Oat, milled feed fractions,” and “Wheat, milled byproducts” and adding alphabetically the following entries to the table in paragraph (a) to read as follows:

§ 180.176 Mancozeb; tolerances for residues.

(a) * * *

Commodity | Parts per million
* * * * *
Barley, bran | 20
Barley, flour | 20
* * * * *
Barley, pearled barley | 20
* * * * *
Cattle, kidney | 0.5
Cattle, liver | 0.5
* * * * *
Corn, field, forage | 5
* * * * *
Corn, field, stover | 5
Corn, pop, stover | 5
Corn, sweet, forage | 5
* * * * *
Corn, sweet, stover | 5
* * * * *
Goat, kidney | 0.5
Goat, liver | 0.5
* * * * *
Hog, kidney | 0.5
Hog, liver | 0.5
Horse, kidney | 0.5
Horse, liver | 0.5
* * * * *
Oat, flour | 20
* * * * *
Oat, groats/rolled oats | 20
* * * * *
Poultry, kidney | 0.5
Poultry, liver | 0.5
* * * * *
Sheep, kidney | 0.5
Sheep, liver | 0.5
* * * * *
Wheat, bran | 20
Wheat, flour | 20
Wheat, germ | 20
* * * * *
Wheat, middlings | 20
Wheat, shorts | 20
* * * * *

* * * * *

7. Section 180.205 is amended by removing the entry for “Mint, hay,” and adding alphabetically the following entries to the table in paragraph (a) to read as follows:

§ 180.205 Paraquat; tolerances for residues.

(a) * * *

Commodity | Parts per million
* * * * *
Peppermint, tops | 0.5
* * * * *
Spearmint, tops | 0.5
* * * * *

* * * * *

8. Section 180.222 is amended by removing the entry for “Corn, grain” and adding alphabetically the following entries to the table in paragraph (a) to read as follows:

§ 180.222 Prometryn; tolerances for residues.

(a) * * *

Commodity | Parts per million
* * * * *
Corn, field, grain | 0.25
Corn, pop, grain | 0.25
* * * * *

* * * * *

9. Section 180.225 is amended by removing the entry for “Cabbage, Chinese” and adding alphabetically the following entries to the table in paragraph (a)(1) to read as follows:

§ 180.225 Phosphine; tolerances for residues.

(a) General. (1) * * *

Commodity | Parts per million
* * * * *
Cabbage, Chinese, bok choy | 0.01
Cabbage, Chinese, napa | 0.01
* * * * *

* * * * *

10. Section 180.235 is amended by revising paragraph (a)(2) to read as follows:

§ 180.235 Dichlorvos; tolerances for residues.

(a) General. * * *

(2) The tolerance of 0.1 part per million prescribed by 21 CFR 556.180 for negligible residues of 2,2-dichlorovinyl dimethyl phosphate in hog, fat; hog, meat; hog, meat byproducts; and hog, skin covers both its use as an anthelmintic in swine feed and as an insecticide applied directly to swine.

* * * * *

11. Section 180.253 is amended by removing the entries for “Alfalfa,” “Cabbage, chinese,” “Corn forage,” “Corn, grain (inc pop),” “Corn, stover,” and “Mint, hay,” and adding alphabetically the following entries to the table in paragraph (a) to read as follows:

§ 180.253 Methomyl; tolerances for residues.

(a) * * *

Commodity | Parts per million
Alfalfa, forage | 10
Alfalfa, hay | 10
* * * * *
Cabbage, Chinese, bok choy | 5
Cabbage, Chinese, napa | 5
* * * * *
Corn, field, forage | 10
Corn, field, grain | 0.1
Corn, field, stover | 10
Corn, pop, grain | 0.1
Corn, pop, stover | 10
* * * * *
Corn, sweet, forage | 10
Corn, sweet, stover | 10
* * * * *
Peppermint, tops | 2
* * * * *
Spearmint, tops | 2
* * * * *

* * * * *

12. Section 180.254 is amended by removing the entries for “Corn, forage (of which no more than 5 ppm are carbamates),” “Corn, grain (including popcorn) (of which no more than 0.1 ppm is carbamates), and “Corn, stover (of which no more than 5 ppm are carbamates)” and adding alphabetically the following entries to the table in paragraph (a) to read as follows:

§ 180.254 Carbofuran; tolerances for residues.

(a) * * *

Commodity | Parts per million | Expiration/Revocation date
* * * * *
Corn, field, forage (of which no more than 5 ppm are carbamates) | 25 | 12/31/09
Corn, field, grain (of which no more than 0.1 ppm is carbamates) | 0.2 | 12/31/09
Corn, field, stover (of which no more than 5 ppm are carbamates) | 25 | 12/31/09
Corn, pop, grain (of which no more than 0.1 ppm is carbamates) | 0.2 | 12/31/09
Corn, pop, stover (of which no more than 5 ppm are carbamates) | 25 | 12/31/09
Corn, sweet, forage (of which no more than 5 ppm are carbamates) | 25 | 12/31/09
* * * * *
Corn, sweet, stover (of which no more than 5 ppm is carbamates) | 25 | 12/31/09
* * * * *

* * * * *

13. Section 180.261 is amended by removing the entry for “Alfalfa” and adding alphabetically the following entries to the table in paragraph (a) to read as follows:

§ 180.261 N-(Mercaptomethyl)phthalimide S-(O,O-dimethylphosphorodithioate) and its oxygen analog; tolerances for residues.

(a) * * *

Commodity | Parts per million
Alfalfa, forage | 40
Alfalfa, hay | 40
* * * * *

* * * * *

14. Section 180.262 is amended by removing the entries for “Corn, forage,” “Corn, grain,” and “Corn, stover,” and adding alphabetically the following entries to the table in paragraph (a) to read as follows:

§ 180.262 Ethoprop; tolerances for residues.

(a) * * *

Commodity | Parts per million
* * * * *
Corn, field, forage | 0.02
Corn, field, grain | 0.02
Corn, field, stover | 0.02
Corn, pop, grain | 0.02
Corn, pop, stover | 0.02
Corn, sweet, forage | 0.02
* * * * *
Corn, sweet, stover | 0.02

* * * * *

15. Section 180.275 is amended by removing the entry for “Mint hay” and adding alphabetically the following entries to the table in paragraph (c) to read as follows:

§ 180.275 Chlorothalonil; tolerances for residues.

* * * * *

(c) * * *

Commodity | Parts per million
* * * * *
Peppermint, tops | 2
* * * * *
Spearmint, tops | 2

* * * * *

16. Section 180.284 is amended by removing the entry for “Grass (rangeland)” and adding alphabetically the following entries to the table in paragraph (a) to read as follows:

§ 180.284 Zinc phosphide; tolerances for residues.

(a) * * *

Commodity | Parts per million
* * * * *
Grass, rangeland, forage | 0.1
Grass, rangeland, hay | 0.1
* * * * *

* * * * *

17. Section 180.288 is amended by removing the entries for “Corn, grain” and “Corn, stover” and adding alphabetically the following entries to the table in paragraph (a) to read as follows:

§ 180.288 2-(Thiocyanomethylthio)benzothiazole; tolerances for residues.

(a) * * *

Commodity | Parts per million
* * * * *
Corn, field, grain | 0.1
Corn, field, stover | 0.1
Corn, pop, grain | 0.1
Corn, pop, stover | 0.1
* * * * *

18. Section 180.331 is amended by removing the entry for “Clover,” and adding alphabetically the following entries to the table in paragraph (a) to read as follows:

§ 180.331 4-(2,4-Dichlorophenoxy)butyric acid; tolerances for residues.

(a) * * *

Commodity | Parts per million
* * * * *
Clover, forage | 0.2
Clover, hay | 0.2
* * * * *

19. Section 180.377 is amended by removing the entry for “Wheat, milled byproducts” and adding alphabetically the following entries to the table in paragraph (b) to read as follows:

§ 180.377 Diflubenzuron; tolerances for residues.

* * * * *

(b) * * *

Commodity | Parts per million | Expiration/revocation date
* * * * *
Wheat, bran | 0.10 | 12/31/08
Wheat, flour | 0.10 | 12/31/08
Wheat, germ | 0.10 | 12/31/08
* * * * *
Wheat, middlings | 0.10 | 12/31/08
Wheat, shorts | 0.10 | 12/31/08

20. Section 180.379 is amended by removing the entries for “Corn, forage,” “Corn, grain,” and “Corn, stover” and adding alphabetically the following entries to the table in paragraph (a)(1) to read as follows:

§ 180.379 Cyano(3-phenoxyphenyl)methyl-4-chloro-α- (1-methylethyl) benzeneacetate; tolerances for residues.

(a) General. (1) * * *

Commodity | Parts per million
* * * * *
Corn, field, forage | 50.0
Corn, field, grain | 0.02
Corn, field, stover | 50.0
Corn, pop, grain | 0.02
Corn, pop, stover | 50.0
Corn, sweet, forage | 50.0
* * * * *
Corn, sweet, stover | 50.0
* * * * *

* * * * *

21. Section 180.408 is amended as follows:

a. By removing the entries for “Potato, processed (including potato, chips),” and “Tomato, processed” from the table in paragraph (a).

b. By removing the entries for “Barley, milling fractions” and “Oat milling fractions,” and “Wheat, milling fractions” from the table in paragraph (d).

c. By adding alphabetically the following entries to the tables in paragraphs (a) and (d) to read as follows:

§ 180.408 Metalaxyl; tolerances for residues.

(a) * * *

Commodity | Parts per million
* * * * *
Potato, chips | 4.0
Potato, granules, flakes | 4.0
* * * * *
Potato, wet peel | 4.0
* * * * *
Tomato, paste | 3.0
Tomato, puree | 3.0
* * * * *

* * * * *

(d) * * *

Commodity | Parts per million
Barley, bran | 1.0
Barley, flour | 1.0
* * * * *
Barley, pearled barley | 1.0
* * * * *
Oat, flour | 1.0
* * * * *
Oat, groats, rolled oats | 1.0
* * * * *
Wheat, bran | 1.0
* * * * *
Wheat, flour | 1.0
* * * * *
Wheat, germ | 1.0
* * * * *
Wheat, middlings | 1.0
Wheat, shorts | 1.0
* * * * *

* * * * *

22. Section 180.411 is amended by removing the entry for “Cotton, oil” and adding alphabetically the following entry to the table in paragraph (a) to read as follows:

§ 180.411 Fluazifop-P-butyl; tolerances for residues.

(a) General. * * *

Commodity | Parts per million
* * * * *
Cotton, refined oil | 0.2
* * * * *

23. Section 180.419 is amended by revising the table in paragraph (a)(2) to read as follows:

§ 180.419 Chlorpyrifos-methyl; tolerances for residues.

(a) General. * * *

(2) * * *

Commodity | Parts per million
Barley, bran | 90
Barley, pearled barley | 90
Rice, bran | 30
Rice, hulls | 30
Rice, polished rice | 30
Sorghum, grain, bran | 90
Wheat, bran | 30
Wheat, germ | 30
Wheat, middlings | 30
Wheat, shorts | 30

* * * * *

24. Section 180.431 is amended by removing the entries for “Barley, milled fractions (except flour),” “Grass, forage and hay,” “Mint, hay,” and “Wheat, milled fractions (except flour),” and adding alphabetically the following entries to the table in paragraph (a) to read as follows:

§ 180.431 Clopyralid; tolerances for residues.

(a) * * *

Commodity | Parts per million
* * * * *
Barley, bran | 12
* * * * *
Barley, pearled barley | 12
* * * * *
Grass, forage | 500.0
Grass, hay | 500.0
* * * * *
Peppermint, tops | 3.0
* * * * *
Spearmint, tops | 3.0
* * * * *
Wheat, bran | 12
* * * * *
Wheat, germ | 12
* * * * *
Wheat, middling | 12
Wheat, shorts | 12
* * * * *

* * * * *

25. Section 180.435 is amended by removing the entry for “Tomato, concentrated products” and adding alphabetically the following entries to the table in paragraph (a)(1) to read as follows:

§ 180.435 Deltamethrin; tolerances for residues.

(a) General. (1) * * *

Commodity | Parts per million
* * * * *
Tomato, paste | 1.0
Tomato, puree | 1.0
* * * * *

* * * * *

26. Section 180.436 is amended by removing the entry for “Tomato, pomace” and adding alphabetically the following entries to the table in paragraph (a)(1) to read as follows:

§ 180.436 Cyfluthrin and the isomer beta-cyfluthrin; tolerances for residues.

(a) General. (1) * * *

Commodity | Parts per million
* * * * *
Tomato, dry pomace | 5.0
Tomato, wet pomace | 5.0
* * * * *

* * * * *

27. Section 180.440 is amended by removing the entries for “Corn, field, fodder and forage, pop and sweet” and “Corn, field, grain and pop” and adding alphabetically the following entries to the table in paragraph (a) to read as follows:

§ 180.440 Tefluthrin; tolerances for residues.

(a) * * *

Commodity | Parts per million
Corn, field, forage | 0.06
Corn, field, grain | 0.06
Corn, field, stover | 0.06
Corn, pop, grain | 0.06
Corn, pop, stover | 0.06
Corn, sweet, forage | 0.06
* * * * *
Corn, sweet, stover | 0.06
* * * * *

* * * * *

28. Section 180.442 is amended by removing the entries for “Corn, forage,” “Corn, grain (field, seed, and pop),” and “Corn, stover” and adding alphabetically the following entries to the table in paragraph (a)(1) to read as follows:

§ 180.442 Bifenthrin; tolerances for residues.

(a) General. (1) * * *

Commodity | Parts per million
* * * * *
Corn, field, forage | 3.0
Corn, field, grain | 0.05
Corn, field, stover | 5.0
Corn, pop, grain | 0.05
Corn, pop, stover | 5.0
Corn, sweet, forage | 3.0
* * * * *
Corn, sweet, stover | 5.0
* * * * *

* * * * *

29. Section 180.443 is amended by removing the entry for “Grape pomace (wet and dry)” and adding alphabetically the following entries to the table in paragraph (a) to read as follows:

§ 180.443 Myclobutanil; tolerances for residues.

(a) * * *

Commodity | Parts per million
* * * * *
Grape, dried pomace | 10.0
* * * * *
Grape, wet pomace | 10.0
* * * * *

* * * * *

30. Section 180.446 is amended by removing the entry for “Apple, pomace” and adding alphabetically the following entries to the table in paragraph (a)(1) to read as follows:

§ 180.446 Clofentezine; tolerances for residues.

(a) General. (1) * * *

Commodity | Parts per million
* * * * *
Apple, dry pomace | 3.0
Apple, wet pomace | 3.0
* * * * *

* * * * *

31. Section 180.452 is amended by removing the entries for “Corn, forage,” “Corn, grain,” and “Corn, stover” and adding alphabetically the following entries to the table in paragraph (a) to read as follows:

§ 180.452 Primisulfuron-methyl; tolerances for residues.

(a) * * *

Commodity | Parts per million
* * * * *
Corn, field, forage | 0.10
Corn, field, grain | 0.02
Corn, field, stover | 0.10
Corn, pop, grain | 0.02
Corn, pop, stover | 0.10
Corn, sweet, forage | 0.10
* * * * *
Corn, sweet, stover | 0.10
* * * * *

* * * * *

32. Section 180.454 is amended by removing the entries for “Corn, grain” and “Corn, stover” and adding alphabetically the following entries to the table to read as follows:

§ 180.454 Nicosulfuron, [3-pyridinecarboxamide, 2-((((4,6-dimethoxypyrimidin-2-yl)aminocarbonyl)aminosulfonyl))-N,N-dimethyl]; tolerances for residues.

* * * * *

Commodity | Parts per million
* * * * *
Corn, field, grain | 0.1
Corn, field, stover | 0.1
* * * * *
Corn, pop, grain | 0.1
Corn, pop, stover | 0.1
* * * * *

* * * * *

33. Section 180.462 is amended by removing the entries for “Corn, grain” and “Corn, stover” and adding alphabetically the following entries to the table in paragraph (a) to read as follows:

§ 180.462 Pyridate; tolerances for residues.

(a) * * *

Commodity | Parts per million
* * * * *
Corn, field, grain | 0.03
Corn, field, stover | 0.03
Corn, pop, grain | 0.03
Corn, pop, stover | 0.03
* * * * *

* * * * *

34. Section 180.472 is amended by removing the entries for “Grape, pomace (wet or dried),” “Lettuce, head and leaf,” and “Tomato, pomace (wet or dried)” and adding alphabetically the following entries to the table in paragraph (a) to read as follows:

§ 180.472 Imidacloprid; tolerances for residues.

(a) * * *

Commodity | Parts per million
* * * * *
Grape, dried pomace | 5.0
* * * * *
Grape, wet pomace | 5.0
* * * * *
Lettuce, head | 3.5
Lettuce, leaf | 3.5
* * * * *
Tomato, dry pomace | 4.0
* * * * *
Tomato, wet pomace | 4.0
* * * * *

* * * * *

35. Section 180.476 is amended by removing the entries for “Apple, pomace” and “Grape pomace” and adding alphabetically the following entries to the table in paragraph (a)(1) to read as follows:

§ 180.476 Triflumizole; tolerances for residues.

(a) General. (1) * * *

Commodity | Parts per million
* * * * *
Apple, dry pomace | 2.0
Apple, wet pomace | 2.0
* * * * *
Grape, dried pomace | 15.0
* * * * *
Grape, wet pomace | 15.0
* * * * *

* * * * *

36. Section 180.482 is amended as follows:

a. By removing the entries for “Apple, pomace” and “Tree nut crop group including pistachio” from the table in paragraph (a)(1).

b. By removing the entries for “Fat of cattle, goat, hog, horse, and sheep,” “Meat byproducts of cattle, goat, hog, horse and sheep,” and “Meat of cattle, goat, hog, horse and sheep” from the table in paragraph (a)(2).

c. By adding alphabetically the following entries to the tables in paragraphs (a)(1) and (a)(2) to read as follows:

§ 180.482 Tebufenozide; tolerances for residues.

(a) General. (1) * * *

Commodity | Parts per million
* * * * *
Apple, dry pomace | 3.0
Apple, wet pomace | 3.0
* * * * *
Nut, tree, group 14 | 0.1
* * * * *
Pistachio | 0.1
* * * * *

(2) * * *

Commodity | Parts per million
Cattle, fat | 0.1
Cattle, meat | 0.08
Cattle, meat byproducts | 0.08
Goat, fat | 0.1
Goat, meat | 0.08
Goat, meat byproducts | 0.08
Hog, fat | 0.1
Hog, meat | 0.08
Hog, meat byproducts | 0.08
Horse, fat | 0.1
Horse, meat | 0.08
Horse, meat byproducts | 0.08
* * * * *
Sheep, fat | 0.1
Sheep, meat | 0.08
Sheep, meat byproducts | 0.08

* * * * *

37. Section 180.495 is amended by removing the entry for “Apple pomace” and by adding alphabetically the following entries to the table in paragraph (a) to read as follows:

§ 180.495 Spinosad; tolerances for residues.

(a) * * *

Commodity | Parts per million
* * * * *
Apple, dry pomace | 0.5
Apple, wet pomace | 0.5
* * * * *

* * * * *

38. Section 180.515 is amended by removing the entries for “Fat (cattle, goat, horse, and sheep),” “Meat, (cattle, goat, horse, and sheep),” and “Meat, byproducts, cattle, goat, horse, and sheep” and by adding alphabetically the following entries to the table in paragraph (a) to read as follows:

§ 180.515 Carfentrazone-ethyl; tolerances for residues.

(a) * * *

Commodity | Parts per million
* * * * *
Cattle, fat | 0.10
Cattle, meat | 0.10
Cattle, meat byproducts | 0.10
* * * * *
Goat, fat | 0.10
Goat, meat | 0.10
Goat, meat byproducts | 0.10
* * * * *
Horse, fat | 0.10
Horse, meat | 0.10
Horse, meat byproducts | 0.10
* * * * *
Sheep, fat | 0.10
Sheep, meat | 0.10
Sheep, meat byproducts | 0.10
* * * * *

* * * * *

39. Section 180.517 is amended by removing the entries for “Fat of cattle, goat, horse and sheep,” “Liver of cattle, goat, horse and sheep,” “Meat Byproducts, except liver of cattle, goat, horse, and sheep,” and “Meat of cattle, goat, horse and sheep” and adding alphabetically the following entries to the table in paragraph (a) to read as follows:

§ 180.517 Fipronil; tolerances for residues.

(a) * * *

Commodity | Parts per million
Cattle, fat | 0.40
Cattle, liver | 0.10
Cattle, meat | 0.04
Cattle, meat byproducts, except liver | 0.04
* * * * *
Goat, fat | 0.40
Goat, liver | 0.10
Goat, meat | 0.04
Goat, meat byproducts, except liver | 0.04
* * * * *
Horse, fat | 0.40
Horse, liver | 0.10
Horse, meat | 0.04
Horse, meat byproducts, except liver | 0.04
* * * * *
Sheep, fat | 0.40
Sheep, liver | 0.10
Sheep, meat | 0.04
Sheep, meat byproducts, except liver | 0.04

* * * * *

40. Section 180.554 is amended by removing the entry for “Apple pomace” and by adding alphabetically the following entries to the table in paragraph (a)(1) to read as follows:

§ 180.554 Kresoxim-methyl; tolerances for residues.

(a) General. (1) * * *

Commodity | Parts per million
Apple, dry pomace | 1.0
Apple, wet pomace | 1.0
* * * * *

* * * * *

41. Section 180.615 is amended by removing the entry for “Wheat, milled byproducts” and adding alphabetically the following entries to the table in paragraph (d) to read as follows:

§ 180.615 Amicarbazone; tolerances for residues.

* * * * *

(d) * * *

Commodity | Parts per million
* * * * *
Wheat, bran | 0.15
Wheat, flour | 0.15
* * * * *
Wheat, germ | 0.15
* * * * *
Wheat, middlings, | 0.15
Wheat, shorts | 0.15
* * * * *

[FR Doc. E9-21416 Filed 9-8-09; 8:45 am]

BILLING CODE 6560-50-S